DEPARTMENT OF TRANSPORTATION

Federal Aviation Administration

14 CFR Part 73

[Docket No. FAA-2017-1109; Airspace Docket No. 17-ASO-22]

RIN 2120-AA66

Amendment for Restricted Area R-4403A; Stennis Space Center, MS

AGENCY: Federal Aviation Administration (FAA), DOT.

ACTION: Final rule.

SUMMARY: This action amends the time of designation for restricted area R-4403A, Stennis Space Center, MS, from “Intermittent, 1000 to 0300 local time, as activated by NOTAM at least 24 hours in advance,” to “Intermittent by NOTAM at least 24 hours in advance.” The National Aeronautics and Space Administration (NASA) requested the change to meet requirements of the Space Launch System (SLS) Core Stage test program.

DATES: Effective date 0901 UTC, July 19, 2018.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it supports a change to restricted area R-4403A, Stennis Space Center, MS, to safely accommodate NASA test programs.

History

The FAA published a notice of proposed rulemaking (NPRM) in the Federal Register for Docket No. FAA-2017-1109 (83 FR 1319; January 11, 2018). The NPRM proposed to amend the time of designation for restricted area R-4403A, Stennis Space Center, MS, from “Intermittent, 1000 to 0300 local time, as activated by NOTAM at least 24 hours in advance,” to “Intermittent by NOTAM at least 24 hours in advance.” Interested parties were invited to participate in this rulemaking effort by submitting written comments on the proposal. No comments were received.

The Rule

The FAA is amending 14 CFR part 73 by changing the time of designation for restricted area R-4403A, Stennis Space Center, MS, from “Intermittent, 1000 to 0300 local time, as activated by NOTAM at least 24 hours in advance,” to “Intermittent by NOTAM at least 24 hours in advance.”

This change is required to provide the additional restricted area activation time needed to accommodate NASA's SLS Core Stage engine testing program. The current boundaries and designated altitude for R-4403A remain unchanged. Additionally, this action does not affect restricted areas R-4403B, C, E, or F (Note: there is no “D” subdivision).

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA determined the modification of restricted area R-4403A, Stennis Space Center, MS, to be within the scope of the Navy and NASA's Environmental Assessment (EA) and Finding of No Significant Impact (FONSI) for the Redesignation and Expansion of Restricted Airspace R-4403 to Support Military Air-To-Ground Munitions Training and NASA Rocket Engine Testing At Stennis Space Center, Mississippi dated November 24, 2015; and the FAA's decision document adopting the airspace portion of the above cited EA titled “Federal Aviation Administration, Adoption of the Environmental Assessment and FONSI/ROD for Redesignation and Expansion of Restricted Airspace R-4403, Stennis Space Center, Hancock and Pearl River County, MS, and St Tammany Parrish, LA, signed on March 22, 2016; and that no further environmental review is required.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.44 [Amended]

2. Section 73.44 is amended as follows:

* * * * *

R-4403A Stennis Space Center, MS [Amended]

By removing “Time of Designation. Intermittent, 1000 to 0300 local time, as activated by NOTAM at least 24 hours in advance,” and adding in their place:

Time of designation. Intermittent by NOTAM at least 24 hours in advance.

Issued in Washington, DC, on April 24, 2018.
Rodger A. Dean, Jr.,
Manager, Airspace Policy Group.

[FR Doc. 2018-09101 Filed 4-30-18; 8:45 am]

BILLING CODE 4910-13-P